DEPARTMENT OF COMMERCE

Economics and Statistics Administration

Bureau of Economic Analysis Advisory Committee

AGENCY: Bureau of Economic Analysis, Commerce.

ACTION: Notice of public meeting.

SUMMARY: Pursuant to the Federal Advisory Committee Act (Pub. L. 92-463 as amended by Pub. L. 94-409, Pub. L. 96-523, Pub. L. 97-375 and Pub. L. 105-153), we are announcing a meeting of the Bureau of Economic Analysis Advisory Committee. The meeting will discuss recent measurement issues relating to the personal consumption expenditures price index, compensation and employment, research and development, and the upcoming comprehensive revision of the NIPAs.

DATES: Friday, November 3, 2006, the meeting will begin at 9 a.m. and adjourn at approximately 4 p.m.

ADDRESSES: The meeting will take place at BEA, 2nd floor, Conference Room A&B, 1441 L Street, NW., Washington, DC 20230.

FOR FURTHER INFORMATION CONTACT: Samantha Schasberger, Communications Division, Program Analyst, Bureau of Economic Analysis, U.S. Department of Commerce, Washington, DC 20230; telephone number: (202) 606-9642.

Public Participation: This meeting is open to the public. Because of security procedures, anyone planning to attend the meeting must contact Samantha Schasberger of BEA at (202) 606-9642 in advance. The meeting is physically accessible to people with disabilities. Requests for foreign language interpretation or other auxiliary aids should be directed to Samantha Schasberger at (202) 606-9642.

SUPPLEMENTARY INFORMATION: The Committee was established September 2, 1999. The Committee advises the Director of BEA on matters related to the development and improvement of BEA's national, regional, industry, and international economic accounts, especially in areas of new and rapidly growing economic activities arising from innovative and advancing technologies, and provides recommendations from the perspectives of the economics profession, business, and government. This will be the Committee's fourteenth meeting.

Dated: September 18, 2006.
J. Steven Landefeld,
Director, Bureau of Economic Analysis.

[FR Doc. 06-8019 Filed 9-21-06; 8:45 am]

BILLING CODE 3510-06-P